DEPARTMENT OF THE TREASURY

Agency Information Collection Activities; Submission for OMB Review; Comment Request; Notice to Account Holder for Garnishment of Accounts Containing Federal Benefit Payments

AGENCY: Departmental Offices, U.S. Department of the Treasury.

ACTION: Notice.

SUMMARY: The Department of the Treasury will submit the following information collection requests to the Office of Management and Budget (OMB) for review and clearance in accordance with the Paperwork Reduction Act of 1995, on or after the date of publication of this notice. The public is invited to submit comments on these requests.

DATES: Comments should be received on or before July 29, 2020 to be assured of consideration.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submissions may be obtained from Spencer W. Clark by emailing PRA@treasury.gov, calling (202) 927-5331, or viewing the entire information collection request at www.reginfo.gov.

SUPPLEMENTARY INFORMATION: Title: Notice to Account Holder for Garnishment of Accounts Containing Federal Benefit Payments.

OMB Control Number: 1505-0230.

Type of Review: Extension without change of currently approved collection.

Description: Certain federal benefits are exempt from garnishment orders. In order to give force and effect to federal anti-garnishment statutes, financial institutions, and child support enforcement agencies must maintain records of actions taken in handling garnishments and provide notices to financial account holders.

Form: None.

Affected Public: Business or other for-profit institutions, State and Local Governments.

Estimated Number of Respondents: 130,250.

Frequency of Response: Once.

Estimated Total Number of Annual Responses: 130,250.

Estimated Time per Response: 15 minutes.

Estimated Total Annual Burden Hours: 23,355 hours.

(Authority: 44 U.S.C. 3501 et seq.)

Dated: June 24, 2020.
Spencer W. Clark,
Treasury PRA Clearance Officer.

[FR Doc. 2020-13959 Filed 6-26-20; 8:45 am]

BILLING CODE 4810-25-P